Title 3—

The President

Proclamation 9587 of April 3, 2017

National Crime Victims' Rights Week, 2017

By the President of the United States of America

A Proclamation

During National Crime Victims' Rights Week, we stand with crime victims and their families, we renew our commitment to safeguarding our communities from crime, and we recognize those who devote their lives to supporting and empowering victims and survivors.

Crime and violence rob people of their rights to life, liberty, and the pursuit of happiness. We must focus on the plight of crime victims and search for effective solutions. For too long, communities across this Nation have suffered from murder rates that are far too high. Gang-related shootings plague our major cities, while violence continues to afflict towns both small and large.

The physical, mental, and emotional scars borne by crime victims are often coupled with serious financial implications. In 1984, President Reagan signed the Victims of Crime Act, which established the Crime Victims Fund. This fund provides compensation for victims of crime for crime-related expenses such as medical payments, counseling, lost wages, and funeral and burial costs; supports victims' service programs such as domestic violence shelters and rape crisis centers; and builds capacity to improve responsiveness to the needs of crime victims. The Crime Victims Fund receives billions of dollars each year from, among other sources, certain criminal fines and penalties paid by convicted Federal offenders, which helps prevent American taxpayers from shouldering the burdens of reparations. While this fund cannot completely undo the damage caused by crime, it can at least ease the monetary burden felt by victims and their families in the midst of grief.

As a society, we must continue to support those who have endured the fallout from crime. My Administration is developing an office to assist victims of crimes committed by criminal aliens. The Victims Of Immigration Crime Engagement (VOICE), within the Department of Homeland Security, will work to serve the victims of open borders policies—which will no longer form the basis of our immigration system. These victims will not be ignored by the media or silenced by special interests any longer. We will restore law and order and protect our citizens from this undue harm.

During National Crime Victims' Week, we renew our commitment to protecting all victims of crime, vindicating their rights, alleviating their burdens, and preventing future crime. We will assist our law enforcement community in bringing justice to victims and to their communities. My Administration is resolved to uphold this fundamental purpose of the United States Government—preserving security for all Americans.

NOW, THEREFORE, I, DONALD J. TRUMP, President of the United States of America, by virtue of the authority vested in me by the Constitution and the laws of the United States, do hereby proclaim April 2 through April 8, 2017, as National Crime Victims' Rights Week. I urge all Americans, families, law enforcement, community and faith-based organizations, and private organizations to work together to support victims of crime and protect their rights.

IN WITNESS WHEREOF, I have hereunto set my hand this third day of April, in the year of our Lord two thousand seventeen, and of the Independence of the United States of America the two hundred and forty-first.

[FR Doc. 2017-07065

Filed 4-5-17; 11:15 am]

Billing code 3295-F7-P